DEPARTMENT OF THE INTERIOR

National Park Service

[NPS-WASO-NAGPRA-NPS0029326; PPWOCRADN0-PCU00RP14.R50000]

Notice of Inventory Completion: University of Tennessee, Department of Anthropology, Knoxville, TN

AGENCY: National Park Service, Interior.

ACTION: Notice.

SUMMARY: The University of Tennessee, Department of Anthropology (UTK) has completed an inventory of human remains and associated funerary objects, in consultation with the appropriate Indian Tribes or Native Hawaiian organizations, and have determined that there is a cultural affiliation between the human remains and associated funerary objects and present-day Indian Tribes or Native Hawaiian organizations. Lineal descendants or representatives of any Indian Tribe or Native Hawaiian organization not identified in this notice that wish to request transfer of control of these human remains and associated funerary objects should submit a written request to UTK. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to UTK at the address in this notice by February 27, 2020.

ADDRESSES: Dr. Robert Hinde, University of Tennessee, Office of the Provost, 527 Andy Holt Tower, Knoxville, TN 37996-0152, telephone (865) 974-2445, email rhinde@utk.edu and vpaa@utk.edu.

SUPPLEMENTARY INFORMATION: Notice is here given in accordance with the Native American Graves Protection and Repatriation Act (NAGPRA), 25 U.S.C. 3003, of the completion of an inventory of human remains and associated funerary objects under the control of the University of Tennessee, Department of Anthropology, Knoxville, TN. The human remains and associated funerary objects were removed from Morton County, ND; Campbell County, SD; and Lyman County, SD.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by UTK professional staff in consultation with representatives of the Three Affiliated Tribes of the Fort Berthold Reservation, North Dakota.

History and Description of the Remains

In the summer of 1960, human remains representing, at minimum, two individuals were removed from 32MO11, the Huff site, in Morton County, ND. The excavation was directed by W. Raymond Wood under a grant from the State Historical Society of North Dakota and the National Park Service (NPS). Post-excavation, Wood transferred the human skeletal remains to the State Historical Society of North Dakota. In October 1960, Wood had Norman Paulson transfer the human skeletal remains to William Bass at the University of Kansas. In 1971, when Bass moved from Kansas to the University of Tennessee, Knoxville (UTK), he took at least two skeletal individuals from the Huff site, 32MO11, with him. The individual in Burial 1 is a female, 45 to 50 years old. The individual in Burial 3 is a female, 45 to 50 years old. (A third individual, in Burial 2, was not found at UTK during the 2017-2019 final inventory and documentation search, and it is unclear whether the State Historical Society of North Dakota ever transferred the human remains of that individual). No known individuals were identified. No associated funerary objects are present.

The Huff site, 32MO11, is considered to be a relatively short-term fortified site occupied during the Terminal Middle Missouri period. Radiocarbon dating, with a 2-sigma probability range, dates the site between A.D. 1431 and 1496 (Johnson 2007:73). The Huff site is located about 19 miles south of the town of Mandan. The Terminal Middle Missouri Period, together with the earlier Extended Middle Missouri Period and the later Heart River phase, are “thought to represent an unbroken Mandan cultural continuum from the historically documented villages in the Heart region back to about AD 1000” (Johnson 2007:109). Today, the Mandan are part of the Mandan, Hidatsa and Arikara Nation, known as the Three Affiliated Tribes of the Fort Berthold Reservation, North Dakota.

Between 1957 and 1959, human remains representing, at minimum, 41 individuals were removed from 39CA4, the Anton Rygh site, in Campbell County, SD, under the direction of Alfred W. Bowers as part of the Missouri River Basin Project. Post-excavation, Bowers transferred these human skeletal remains to the University of Idaho, Moscow. In January 1974, the Chairman of the Sociology/Anthropology Department of the University of Idaho, Moscow, Roderick Sprague, transferred the human skeletal remains to William Bass at UTK. The human skeletal remains belong to nine infants and eight children of indeterminate sex, four adolescents, and 20 adults. Three of the adolescent individuals are of indeterminate sex, and one is probably male. Of the adults, six are probably male, 10 probably female, and four are of indeterminate sex. No known individuals were identified. No associated funerary objects are present.

Site 39CA4 is a large, multi-component earth lodge village, part of the Plains Village Tradition. It is a fortified village site covering around 11-12 acres, and at least two occupations are suggested by the archeological evidence. The first occupation dates to the Extended Middle Missouri period (A.D 1000-1500), while the second occupation dates to the Extended Coalescent (A.D. 1500-1675) and Post Contact Coalescent (A.D. 1675-1780) periods. Anthropological, archeological and biological evidence support a finding that during the Extended Middle Missouri period, this area lay within the ancestral Mandan territory, and that during the Extended Coalescent and Post Contact Coalescent periods, this area lay within the ancestral Arikara territory. Today, the Mandan and Arikara are part of the Mandan, Hidatsa and Arikara Nation, known as the Three Affiliated Tribes of the Fort Berthold Reservation, North Dakota.

In 1956, human remains representing, at minimum, five individuals were removed from 39CA6, the Bamble site, in Campbell County, SD, by David Baerreis, John Dallman and others from the University of Wisconsin under the Inter-Agency Salvage Program in the Missouri Basin. Post-excavation, these human skeletal remains were presumably transferred to the University of Wisconsin. At an unknown date, likely post 1956 and pre-1990s, the human skeletal remains were transferred from the University of Wisconsin to William Bass at UTK. The individual in Burial 2/1 is an adult male, 40-45 years old; the individual in Burial 2/2 is an adult female, 22-24 years old; the individual in Burial 2/3 is a newborn infant, sex indeterminate; the individual in Burial 2/4 is an adult, probably male, 35+ years old; and the individual in Burial 2/5 is an adult, probably female, 50+ years old. No known individuals were identified. The one associated funerary object is an animal bone.

At an unknown date, human remains representing, at minimum, one individual were removed from 39CA6, the Bamble site, in Campbell County, SD. This individual, a child, was not assigned a burial number. A note accompanying the human remains stated “donated by Earl Burns.” At an unknown date, these human remains were transferred to William Bass at UTK. This skeletal individual is a child, 2-4 years old, of indeterminate sex. No known individuals were identified. The 17 associated funerary objects are seven animal bones, eight ceramic fragments, one antler, and one rock.

Site 39CA6, the Bamble site, is a fortified village dating to the Extended Coalescent period, circa A.D. 1500-1675. Artifacts from previous excavations at the site show a mix of indigenous and European materials, such as glass beads and brass items. Burial practices include primary interments covered with wood, representative of the Akaska Focus. Based on oral tradition, archeological evidence, geographical location, historic accounts, and osteological interpretations, the people of the Extended Coalescent period are believed to be ancestral Arikara. Today, the Arikara are part of the Mandan, Hidatsa and Arikara Nation, known as the Three Affiliated Tribes of the Fort Berthold Reservation, North Dakota.

In 1959, human remains representing, at minimum, three individuals were removed from 39LM227, the Stricker Mound site in Lyman County, SD, by Carlyle Smith of the University of Kansas, Museum of Natural History, under a cooperative agreement with the NPS. Presumably, Smith transferred the human remains to the University of Kansas, as William Bass and Richard Jantz studied them there in 1962. In 1971, Bass transferred the human remains to UTK. The first individual is an adult male, 30-35 years old; the second individual is a newborn infant of indeterminate sex; and the third individual is an adult male, 50+ years old. No known individuals were identified. The 53 associated funerary objects are one soil sample, three animal teeth, 36 animal bone fragments, nine lithic flakes, two projectile points, one sandstone tool, and one bivalve.

According to Bass and Jantz (1965:20), the Stricker site, 39LM1, contained a burial mound later designated 39LM227. Archeological evidence places the Stricker site (39LM1) in the Extended Coalescent period (A.D. 1500-1675). Although it is unclear if the burial was contemporaneous with the settlement or a later intrusion, a projectile point found with the first individual does fit within the Extended Coalescent period. Anthropological, archeological and biological evidence support a finding that the people of the Extended Coalescent and the later Post Contact Coalescent periods in this region are ancestral Arikara. Today, the Arikara are part of the Mandan, Hidatsa and Arikara Nation, known as the Three Affiliated Tribes of the Fort Berthold Reservation, North Dakota.

Based on morphological features, site and burial context, and associated funerary objects, UTK has determined that the human remains in this notice are of Native American ancestry. Additionally, based upon the historical record, anthropological and archeological evidence, site analysis, osteological analysis, and tribal consultation, UTK believes that there is a relationship of shared group identity that can be reasonably traced between these Native American human remains and associated funerary objects and the Three Affiliated Tribes of the Fort Berthold Reservation, North Dakota.

Determinations Made by the University of Tennessee, Department of Anthropology

Officials of the University of Tennessee, Department of Anthropology have determined that:

• Pursuant to 25 U.S.C. 3001(9), the human remains described in this notice represent the physical remains of 52 individuals of Native American ancestry.

• Pursuant to 25 U.S.C. 3001(3)(A), the 71 objects described in this notice are reasonably believed to have been placed with or near individual human remains at the time of death or later as part of the death rite or ceremony.

• Pursuant to 25 U.S.C. 3001(2), there is a relationship of shared group identity that can be reasonably traced between the Native American human remains and associated funerary objects and the Three Affiliated Tribes of the Fort Berthold Reservation, North Dakota.

Additional Requestors and Disposition

Lineal descendants or representatives of any Indian Tribe or Native Hawaiian organization not identified in this notice that wish to request transfer of control of these human remains and associated funerary objects should submit a written request with information in support of the request to Dr. Robert Hinde, University of Tennessee, Office of the Provost, 527 Andy Holt Tower, Knoxville, TN 37996-0152, telephone (865) 974-2445, email rhinde@utk.edu and vpaa@utk.edu, by February 27, 2020. After that date, if no additional requestors have come forward, transfer of control of the human remains and associated funerary objects to the Three Affiliated Tribes of the Fort Berthold Reservation, North Dakota, may proceed.

The University of Tennessee, Department of Anthropology is responsible for notifying the Three Affiliated Tribes of the Fort Berthold Reservation, North Dakota, that this notice has been published.

Dated: November 14, 2019.
Melanie O'Brien,
Manager, National NAGPRA Program.

[FR Doc. 2020-01351 Filed 1-27-20; 8:45 am]

BILLING CODE 4312-52-P